DEPARTMENT OF JUSTICE

Antitrust Division

Notice Pursuant to the National Cooperative Research and Production Act of 1993—Robotics Technology Consortium, Inc.

Correction

In notice document 2010-22215 beginning on page 54914 in the issue of Thursday, July 9, 2010, make the following corrections:

1. On page 54914, in the first column, in the sixteenth line below the document subject, “AEB, Inc.” should read “ABB, Inc.”.

2. On the same page, in the same column, in the 23rd line below the document subject, “BEN Technologies Corp” should read “BBN Technologies Corp”.

3. On the same page, in the same column, in the eighth line from the bottom of the page, “Amstin, TX” should read “Austin, TX”.

4. On the same page, in the same column, in the last line of the column, “101-Integrated Consultants, Inc.” should read “ICI-Integrated Consultants, Inc.”

5. On the same page, in the third column, in the first full paragraph, in the second and third lines, “activity of this group research additional written membership” should read “ activity of the group research project. Membership in this group research project remains open, and RTC intends to file additional written notifications disclosing all changes in membership.”

6. On the same page, in the same column, in the second full paragraph, in the first through sixth lines, “On October 15, pursuant to Section the group research project. Membership in the project remains open, and RTC intends to file notifications disclosing all changes. In 2009, RTC filed its original notification 6(a) of the Act.” should read, “On October 15, 2009, RTC filed its original notification pursuant to section 6(a) of the Act.”

[FR Doc. C1-2010-22215 Filed 9-20-10; 8:45 am]

BILLING CODE 1505-01-D